ENVIRONMENTAL PROTECTION AGENCY

[EPA-R08-OW-2025-0010; FRL-12704-01-R8]

Proposed Re-Issuance of National Pollutant Discharge Elimination System General Permit for Wastewater Discharges Associated With Drinking Water Production Located in the EPA Region 8 Indian Country and Lands of Exclusive Federal Jurisdiction

AGENCY: Environmental Protection Agency (EPA).

ACTION: Notice of availability for comment.

SUMMARY: The EPA Region 8 is requesting comments on the draft 2025 National Pollutant Discharge Elimination System (NPDES) drinking water general permit (DWGP) for wastewater discharges associated with drinking water treatment plants. The DWGP will authorize wastewater discharges from drinking water facilities located in Indian country in the EPA Region 8 in accordance with the terms and conditions described therein. This is the first reissuance of the DWGP. EPA proposes to issue the permit for five (5) years and is seeking comment on the draft permit.

DATES: Comments must be received, in writing, on or before July 18, 2025.

ADDRESSES: Submit your comments, identified by Docket ID No. EPA-R08-OW-2025-0010 by the following method: https://www.regulations.gov. Follow the on-line instructions for submitting comments. Once submitted, comments cannot be edited or removed from https://www.regulations.gov. The EPA may publish any comment received. Do not submit information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Docket: All documents in the docket are listed in the https://www.regulations.gov index. Although listed in the index, some information is not publicly available, e.g., CBI or other information whose disclosure is restricted by statute. Certain other material, such as copyrighted material, will be publicly available only in hard copy. Publicly available docket materials are available either electronically in https://www.regulations.gov or in hard copy at the Wastewater Program, Environmental Protection Agency (EPA), Region 8, 1595 Wynkoop Street, Denver, Colorado 80202-1129. The EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Paul Garrison, Wastewater Program, U.S. Environmental Protection Agency, Region 8, Mailcode 8WD-CWW, 1595 Wynkoop Street, Denver, Colorado 80202-1129, telephone number: (303) 312-6016, email address: garrison.paul@epa.gov.

SUPPLEMENTARY INFORMATION:

I. Background

The Drinking Water General Permit (DWGP) contains requirements similar to an individual permit and will authorize the discharge of process wastewater in accordance with the terms and conditions described therein. The fact sheet for the permit is provided for download concurrently with the permit and provides detailed information on the methodology used to develop effluent limitations, the specific geographic areas covered by the permits, monitoring schedules, inspection requirements, major changes from previous permit and other regulatory decisions or requirements in the permit.

II. Summary of Permit Coverage

The DWGP (permit numbers: CODWXXXX@, MTDWXXXX@, NDDWXXXX@, SDDWXXXX@, UTDWXXXX@, WYXXXX@) provides coverage for drinking water treatment facilities in EPA Region 8 that discharge process wastewater to waters of the United States in Indian Country and Lands of Exclusive Federal Jurisdiction within the meaning of 18 U.S.C. 1151. A full description of the geographic scope of coverage is included in the public notice version of the permit.

The DWGP provides coverage for discharges of wastewater from drinking water treatment processes. Process flows contributing to the wastewater discharge include: filter backwash, filter to waste, decanted lime sludge dewatering, influent screen backwash and/or miscellaneous wastewater sources associated with drinking water facility operation. Miscellaneous wastewater sources may include, but are not limited to: processed potable water, disinfection of treatment plant pipelines and tanks, and overflow from holding tanks of treated water.

The EPA has identified drinking water treatment processes methods that do not qualify for coverage under the DWGP. The processes wastewaters not included in this general permit include: batch regenerated potassium permanganate iron removal, sodium zeolite softening, nano filtration and reverse osmosis.

The DWGP contains two sets of effluent limitations: primary effluent limitations that apply to all discharges, and supplemental effluent limitations that will apply to discharges on an individual basis as necessary to protect water quality. The effluent limitations were derived from technology based and water quality based effluent limitations as described in the fact sheet. The EPA will review a facility's Notice of Intent (NOI) to be covered under the DWGP and determine the need for implementation of the supplemental effluent limitations and corresponding self-monitoring requirements. The permittee will be notified of the applicable effluent limitations and monitoring requirements in the notification of coverage.

The following Tribes in EPA Region 8 have Clean Water Act (CWA) section 401(a)(1) certification authority: the Assiniboine & Sioux Tribes, the Confederated Salish & Kootenai Tribes, the Northern Cheyenne Tribe, the Ute Mountain Ute Tribe, and the Southern Ute Indian Tribe. The EPA has requested certification from each of these Tribes that the DWGP complies with the applicable provisions of the CWA and their respective Tribal water quality standards.

III. Other Legal Requirements

Economic Impact (Executive Order 12866): The EPA Office of Policy has determined that the issuance of these general permits is not a “significant regulatory action” under the terms of Executive Order 12866 (58 FR 51735 (October 4, 1993)) and is therefore not subject to formal Office of Management and Budget (OMB) review prior to proposal.

Paperwork Reduction Act (PRA): EPA has reviewed the requirements imposed on regulated facilities in these proposed general permits under the PRA of 1980, 44 U.S.C. 501, et seq. The information collection requirements of these permits have already been approved by the OMB in submissions made for the NPDES permit program under the provisions of the CWA.

Unfunded Mandates Reform Act (UMRA): Section 201 of the UMRA, Public Law 104-4, generally requires federal agencies to assess the effects of their “regulatory actions” defined to be the same as “rules” subject to the Regulatory Flexibility Act (RFA) on Tribal, state, local governments and the private sector. Since the permit proposed is an adjudication, it is not subject to the RFA and is therefore not subject to the requirements of the UMRA.

Authority: Clean Water Act, 33 U.S.C. 1251, et seq.

Stephanie DeJong,
Manager, Clean Water Branch, EPA Region 8.

[FR Doc. 2025-10034 Filed 6-2-25; 8:45 am]

BILLING CODE P